DEPARTMENT OF TRANSPORTATION

Federal Aviation Administration

14 CFR Part 71

[Docket No. FAA-2017-0222; Airspace Docket No. 17-AWP-8]

Amendment of Class D and E Airspace; Hilo, HI

AGENCY: Federal Aviation Administration (FAA), DOT.

ACTION: Final rule, technical amendment, correction.

SUMMARY: This action corrects a final rule, technical amendment published in Federal Register on June 22, 2017, that amends Class E airspace designated as an extension at Hilo International, General Lyman Field, Hilo, HI. The airport name is corrected to Hilo International Airport, Hilo, HI, removing “General Lyman Field” from the airport name to match the FAA's aeronautical database. This technical amendment also corrects the airport name in Class D, Class E surface area airspace, and Class E airspace extending upward from 700 feet above the surface.

DATES: Effective 0901 UTC, August 17, 2017. The Director of the Federal Register approves this incorporation by reference action under Title 1, Code of Federal Regulations, Part 51, subject to the annual revision of FAA Order 7400.11 and publication of conforming amendments.

FOR FURTHER INFORMATION CONTACT: Robert LaPlante, Federal Aviation Administration, Operations Support Group, Western Service Center, 1601 Lind Avenue SW., Renton, WA 98057; telephone (425) 203-4566.

SUPPLEMENTARY INFORMATION:

History

The FAA published a final rule, technical amendment in the Federal Register (82 FR 28404, June 22, 2017) Docket No. FAA-2017-0222, amending Class E Airspace designated as an extension, removing the Notice to Airmen (NOTAM) part-time status at Hilo International, General Lyman Field, Hilo, HI. Subsequent to publication, the FAA found the airport name was incorrect and is now corrected from Hilo International, General Lyman Field, to Hilo International Airport.

In making the airport name change in Class E airspace designated as an extension, the FAA realized that the airport name change for Hilo International Airport also affects Class D airspace, Class E surface area airspace, and Class E airspace extending upward from 700 feet above the surface. This technical amendment correction includes amending the above airspace areas by removing General Lyman Field from the airport name, and does not affect the boundaries or operating requirements of the airport in the associated airspace.

Authority: 49 U.S.C. 106(f), 106(g); 40103, 40113, 40120; E.O. 10854, 24 FR 9565, 3 CFR, 1959-1963 Comp., p. 389.

Correction to Final Rule

Accordingly, pursuant to the authority delegated to me, in the Federal Register of June 22, 2017 (82 FR 28404) FR Doc. 2017-13048, Amendment of Class E Airspace; Hilo HI, is corrected as follows:

§ 71.1 [Amended]

Paragraph 5000 Class D Airspace.

* * * * *

AWP HI D Hilo, HI [Amended]

Hilo International Airport, HI

(Lat. 19°43′13″ N., long. 155°02′55″ W.)

That airspace extending upward from the surface to and including 2,500 feet MSL within a 4.3-mile radius of Hilo International Airport. This Class D airspace area is effective during the specific dates and times established in advance by a Notice to Airmen. The effective date and time will thereafter be continuously published in the Pacific Chart Supplement.

Paragraph 6002 Class E Airspace Areas Designated as a Surface Area.

* * * * *

AWP HI E2 Hilo, HI [Amended]

Hilo International, HI

(Lat. 19°43′13″ N., long. 155°02′55″ W.)

That airspace extending upward from the surface within a 4.3-mile radius of Hilo International Airport. This Class E airspace area is effective during the specific dates and times established in advance by a Notice to Airmen. The effective date and time will thereafter be continuously published in the Pacific Chart Supplement.

Paragraph 6004 Class E Airspace Areas Designated as an Extension to a Class D or Class E Surface Area.

* * * * *

AWP HI E4 Hilo, HI [Corrected]

Hilo International Airport, HI

(Lat. 19°43′13″ N., long. 155°02′55″ W.)

Hilo VORTAC

(Lat. 19°43′17″ N., long. 155°00′39″ W.)

That airspace extending upward from the surface within 3 miles each side of the Hilo VORTAC 090° radial, extending from the 4.3-mile radius of Hilo International Airport to 8.7 miles east of the Hilo VORTAC.

Paragraph 6005 Class E Airspace Extending Upward From 700 Feet or More Above the Surface of the Earth.

* * * * *

AWP HI E5 Hilo, HI [Amended]

Hilo International Airport, HI

(Lat. 19°43′13″ N., long. 155°02′55″ W.)

Hilo VORTAC

(Lat. 19°43′17″ N., long. 155°00′39″ W.)

That airspace extending upward from 700 feet above the surface within a 4.3-mile radius of Hilo International Airport and within 3 miles each side of the Hilo VORTAC 090° radial, extending from the 4.3-mile radius to 8.7 miles east of the VORTAC and that airspace extending from the 4.3-mile radius to the 7.4-mile radius of the Hilo International Airport extending clockwise from a line 1.8 miles southwest of and parallel to the Hilo VORTAC 321° radial to a line 3 miles north of and parallel to the Hilo VORTAC 090° radial.

Issued in Seattle, Washington, on August 3, 2017.
Byron Chew,
Acting Group Manager, Operations Support Group, Western Service Center.

[FR Doc. 2017-17004 Filed 8-11-17; 8:45 am]

BILLING CODE 4910-13-P